DEPARTMENT OF THE INTERIOR

Fish and Wildlife Service

[FWS-R2-ES-2008-N0081; 20124-1113-0000-F5]

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before July 7, 2008.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave. SW., Room 4102, Albuquerque, New Mexico. Please refer to the respective permit number for each application when submitting comments.

FOR FURTHER INFORMATION CONTACT: Chief, Endangered Species Division, P.O. Box 1306, Room 4102, Albuquerque, New Mexico 87103, (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-175891

Applicant: Robert Burton, Winkelman, Arizona.

Applicant requests a new permit for research and recovery purposes to conduct presence/absence surveys of southwestern willow flycatcher (Empidonax traillii extimus) within Arizona.

Permit TE-051819

Applicant: Fort Worth Zoo, Fort Worth, Texas.

Applicant requests an amendment to a current permit to establish and maintain captive breeding facilities for Barton Spring salamander (Eurycea sosorum) and Houston toad (Bufo houstonensis) within the Fort Worth Zoo.

Permit TE-037118

Applicant: Scott Carroll, Tucson, Arizona.

Applicant requests an amendment to a current permit for research and recovery purposes to conduct presence/absence surveys of southwestern willow flycatcher (Empidonax traillii extimus) within Arizona.

Permit TE-178778

Applicant: Jane Marks, Marks Lab of Aquatic Ecology, Northern Arizona University.

Applicant requests a new permit for research and recovery purposes to conduct presence/absence surveys of Gila topminnow (Poeciliopsis occidentalis) and razorback sucker (Xyrauchen texanus) within Fossil Creek and Gila Counties, Arizona.

Permit TE-794593

Applicant: Texas State Aquarium, Corpus Christi, Texas.

Applicant requests an amendment to a current permit for research and recovery purposes to hold and maintain brown pelicans (Pelecanus occidentalis) within the Texas State Aquarium.

Permit TE-014168

Applicant: Peter Sprouse, Buda, Texas.

Applicant requests an amendment to a current permit for research and recovery purposes to conduct presence/absence surveys of the following species: San Marcos salamander (Eurycea nana), Texas blind salamander (Eurycea rathbuni), Peck's Cave amphipod (Stygobromus pecki), Comal Springs dryopid beetle (Stygoparnus comalensis), Comal Springs riffle beetle (Heterelmis comalensis), and Mexican blindcat (catfish) (Prietella phreatophila) within Texas.

Permit TE-051832

Applicant: Phoenix Zoo, Phoenix, Arizona.

Applicant requests an amendment to a current permit to hold and maintain the following species: Mexican gray wolf (Canis lupus baileyi), thick-billed parrot (Rhynchopsitta pachyrhyncha), masked bobwhite quail (Colinus virginianius ridgwayi), speckled dace (Rhinichthys osculus), Gila topminnow (Poeciliopsis occidentalis), and desert pupfish (Cyprinodon macularius) within the Phoenix Zoo.

Authority: 16 U.S.C. 1531 et seq.

Dated: May 1, 2008.
Thomas L. Bauer,
Acting Regional Director, Southwest Region, Fish and Wildlife Service.

[FR Doc. E8-12466 Filed 6-3-08; 8:45 am]

BILLING CODE 4310-55-P